Proclamation 9070 of December 13, 2013

Bill of Rights Day, 2013

By the President of the United States of America

A Proclamation

When America's Founders declared our independence, they set forth an idea that became our Nation's defining creed: “We hold these truths to be self-evident, that all men are created equal, that they are endowed by their Creator with certain unalienable Rights, that among these are Life, Liberty and the pursuit of Happiness.” They understood that while these truths have always been self-evident, they have never been self-executing. After 15 years of democratic experimentation and national debate, the Bill of Rights came into force, touching off a long journey to carve America's highest ideals into enduring, enforceable law.

The Bill of Rights is the foundation of American liberty, securing our most fundamental rights—from the freedom to speak, assemble, and practice our faith as we please to the protections that ensure justice under the law. For almost two and a quarter centuries, these 10 Constitutional Amendments have served as a basis from which civil society could grow and flourish. They have encouraged innovation and defended Americans who questioned, challenged, and dared our Nation to be greater.

Thomas Jefferson once wrote, “I am not an advocate for frequent changes in laws and constitutions, but laws and constitutions must go hand in hand with the progress of the human mind.” Our liberties opened heated debate over the questions of citizenship and human rights, driving progress in the American mind. We learned that our Nation, built on the principles of freedom and equality, could not survive half-slave and half-free. We resolved that our daughters must have the same rights, the same chances, and the same freedom to pursue their dreams as our sons, and that if we are truly created equal, then the love we commit to one another must be equal as well. Americans with disabilities tore down legal and social barriers; disenfranchised farmworkers united to claim their rights to dignity, fairness, and a living wage; civil rights activists marched, bled, and gave their lives to bring the era of segregation to an end. As we celebrate the anniversary of the Bill of Rights, let us reach for a day when we all may enjoy the basic truths of liberty and equality.

NOW, THEREFORE, I, BARACK OBAMA, President of the United States of America, by virtue of the authority vested in me by the Constitution and the laws of the United States, do hereby proclaim December 15, 2013, as Bill of Rights Day. I call upon the people of the United States to mark this observance with appropriate ceremonies and activities.

IN WITNESS WHEREOF, I have hereunto set my hand this thirteenth day of December, in the year of our Lord two thousand thirteen, and of the Independence of the United States of America the two hundred and thirty-eighth.

[FR Doc. 2013-30277

Filed 12-17-13; 11:15 am]

Billing code 3295-F4